Proclamation 9545 of November 18, 2016

National Child's Day, 2016

By the President of the United States of America

A Proclamation

No matter what zip code they are born into, every young child in America deserves the opportunity to learn, grow, and realize their dreams in a safe and healthy environment. From ensuring they are cared for and nourished to helping them become educated participants in our democracy, we must all do our part to support the next generation of leaders. Today, let us lift up every child in need and strive to leave behind a world that we are proud of for children across our country.

My Administration has worked to put children in every community on a path to a healthier future. Through First Lady Michelle Obama's Let's Move! initiative, we have fostered environments that support healthy choices, promote physical activity, and reduce childhood obesity. We have also fought to improve Head Start and expand quality, affordable child care, which promotes healthy development and school readiness in young children and helps families be more financially secure at home. Because of the broader coverage expansions made possible by the Affordable Care Act (ACA), and improvements made to the Children's Health Insurance Plan through legislation I signed during my first month in office, more than 3 million children have gotten health insurance and the uninsured rate among children has fallen by almost half since 2008. And because of the ACA, children can no longer be denied coverage because of a pre-existing condition. They can also remain on a parent's health insurance plan until age 26, and all plans on the Health Insurance Marketplace are now required to cover basic pediatric services. Anyone who is in need of health insurance can visit www.HealthCare.gov to find coverage for themselves and their children. You can also visit www.Medicaid.gov to find out if you qualify for coverage through Medicaid.

It is one of our greatest obligations to create cleaner and safer environments for our children to live in. Not only must we protect our planet against climate change and secure it for future generations, but we must continue taking concrete action to reduce the effects that dirty air and water can impose on our children—such as the potential for higher incidence of asthma attacks. We must also work to keep our children safe from violence and abuse, prevent youth substance use and its consequences, and modernize our juvenile justice system to hold youth accountable for their actions without consigning them to a never-ending cycle of incarceration.

We know that when we invest in young children, the outcomes are significant—and by investing in early education and preschool for all, we can set children up for success later in life. Education has the potential to unlock ladders of opportunity and empower children to pursue their passions, and we must continue working to strengthen our Nation's education system for children at every grade level. That is why my Administration has pursued efforts to bring higher education within reach for more students and make college more affordable.

Our journey is not complete until all our children are cared for, cherished, and safe from harm. On National Child's Day, let us forge a future of greater opportunity and prosperity for every young person, and let us seek to reach our greatest potential as a Nation by ensuring our daughters and sons can live up to theirs.

NOW, THEREFORE, I, BARACK OBAMA, President of the United States of America, by virtue of the authority vested in me by the Constitution and the laws of the United States, do hereby proclaim November 20, 2016, as National Child's Day. I call upon all citizens to observe this day with appropriate activities, programs, and ceremonies, and to rededicate ourselves to creating the bright future we want for our Nation's children.

IN WITNESS WHEREOF, I have hereunto set my hand this eighteenth day of November, in the year of our Lord two thousand sixteen, and of the Independence of the United States of America the two hundred and forty-first.

[FR Doc. 2016-28467

Filed 11-22-16; 11:15 am]

Billing code 3295-F7-P